DEPARTMENT OF HOMELAND SECURITY

Bureau of Customs and Border Protection

Fee for Customs Services at User Fee Airports

AGENCY: Bureau of Customs and Border Protection, DHS.

ACTION: General notice.

SUMMARY: This document advises the public of an increase in the fees charged user fee airports by the Bureau of Customs and Border Protection (CBP) for providing customs services at these designated facilities. These fees are based on actual costs incurred by CBP for equipment, training, and one CBP inspector on a full-time basis, and, thus, merely represent reimbursement to CBP for services rendered. The fees to be increased are the initial fee charged for a user fee airport's first year after it signs a Memorandum of Agreement with CBP to become a user fee airport, and the annual fee thereafter charged user fee airports.

EFFECTIVE DATE: The new fees will be effective October 1, 2003, and will be reflected in quarterly, user fee airport billings issued on or after that date.

FOR FURTHER INFORMATION CONTACT: Cynthia Sargent, Office of Finance (202) 927-0609.

SUPPLEMENTARY INFORMATION:

Background

Section 236 of the Trade and Tariff Act of 1984 (Pub. L. 98-573, 98 Stat. 2992) (codified at 19 U.S.C. 58b), as amended, authorizes the provision of customs services and establishment of a fee for the use of such services at certain specified airports and at any other airport, seaport, or other facility designated pursuant to specified criteria. (The list of user fee airports is found at § 122.15 of the Customs Regulations (19 CFR 122.15)). The fee that is charged is an amount equal to the expenses incurred in providing the customs services at the designated facility, which includes the salary and expenses of individuals employed by CBP, and any necessary support costs to provide the customs services. The fees being raised are the initial fee charged for a user fee airport's first year after it signs a Memorandum of Agreement with CBP to become a user fee airport (set at $129,125 for FY 2003), and the annual fee, thereafter, charged user fee airports (set at $115,400 for FY 2003).

The user fees for user fee airports are typically set forth in Memorandum of Agreements between the user fee facility and CBP. While the amounts of these fees are agreed to be at flat rates, they are adjustable, as costs and circumstances change.

The last notice concerning fees charged user fee airports was published on September 12, 2002, in the Federal Register (67 FR 57866).

Adjustment of User Fee Airport Fees

As of July 24, 2003, CBP has determined that in order for the user fee to fully reimburse CBP for services provided, the initial fee must be increased from $129,125 to $140,874 and that the recurring annual fee subsequently charged must be increased from $115,400 to $123,438. The new fees will be effective October 1, 2003, and will be reflected in quarterly, user fee airport billings issued on or after that date.

Dated: September 26, 2003.
John E. Eichelberger,
Assistant Commissioner, Office of Finance.

[FR Doc. 03-24949 Filed 9-30-03; 8:45 am]

BILLING CODE 4820-02-P